DEPARTMENT OF HEALTH AND HUMAN SERVICES

Administration for Children and Families

Submission for OMB Review; Comment Request

Title: Tribal Maternal, Infant, and Early Childhood Home Visiting Program Performance Reporting Form 2

OMB No.: New Collection

Description: Social Security Act, Title V, Section 511 (42 U.S.C. 711), as amended by the Medicare Access and Children's Health Insurance Program (CHIP) Reauthorization Act of 2015 (Public Law (Pub. L.) 114-10) created the Maternal, Infant, and Early Childhood Home Visiting Program (MIECHV) and authorized the Secretary of HHS (in Section 511(h)(2)(A)) to award grants to Indian tribes (or a consortium of Indian tribes), tribal organizations, or urban Indian organizations to conduct an early childhood home visiting program, through 3 percent of the total MIECHV program appropriation (authorized in Section 511(j)) for grants to tribal entities. The implementation of the program is a collaborative endeavor between Health Resources Services Administration (HRSA) and the Administration for Children and Families (ACF). HRSA administers the State MIECHV program while ACF administers the Tribal MIECHV program. The goal of the Tribal MIECHV program is to support the development of happy, healthy, and successful American Indian and Alaska Native (AIAN) children and families through a coordinated home visiting system. Tribal MIECHV grants, to the greatest extent practicable, are to be consistent with the requirements of the MIECHV grants to states and jurisdictions (authorized in Section 511(c)), and include conducting a needs assessment and establishing quantifiable, measurable benchmarks. Specifically, the MIECHV legislation requires State and Tribal MIECHV grantees to collect data to measure improvements for eligible families in six specified areas (referred to as “benchmark areas”) that encompass the major goals for the program and are listed below:

1. Improved maternal and newborn health

2. Prevention of child injuries, child abuse, neglect, or maltreatment, and reduction in emergency department visits

3. Improvement in school readiness and achievement

4. Reduction in crime or domestic violence

5. Improvement in family economic self-sufficiency

6. Improvement in the coordination and referrals for other community resources and supports

As part of their implementation plans, Tribal MIECHV grantees are required to propose a plan for meeting the benchmark requirements specified in the legislation and must report data annually to HHS, with improvement assessed at the end of Year 4 and Year 5 of their 5-year grants, (i.e. after 3 years of implementation and at the end of their 5-year grant).

The Tribal HV Form 2 will be used by Tribal MIECHV grantees to begin collecting performance data in October 2017 (pending approval of their benchmark plans) and then reporting performance data starting in October 2018, pending OMB approval. The Tribal HV Form 2 is new to the MIECHV Program information system and is remotely similar to the currently-approved Tribal HV Form 3 (OMB #0915-0357). The creation of Tribal HV Form 2 is due to the added level of specificity and revised performance reporting requirements for grantees to report benchmarks data.

Specifically, ACF will use the proposed Tribal HV Form 2 to:

• Track and improve the quality of benchmark measure data submitted by the Tribal MIECHV grantees;

• Improve program monitoring and oversight; and

• Ensure adequate and timely reporting of program data to relevant federal agencies and stakeholders including the Congress, and members of the public.

Tribal HV Form 2 will provide a template for Tribal MIECHV grantees to report data on their progress under the six benchmark areas. Overall, this information collection will provide valuable information to HHS that will guide understanding of Tribal MIECHV grantees and the provision of technical assistance.

Respondents: Tribal Maternal, Infant, and Early Childhood Home Visiting Program Grantees

Annual Burden Estimates
Instrument | Number of respondents | Number of responses per respondent | Average burden hours per response | Annual burden hours
Tribal Maternal, Infant, and Early Childhood Home Visiting Performance Reporting Form | 20 | 1 | 500 | 10,000

Estimated Total Annual Burden Hours: 10,000.

ADDITIONAL INFORMATION: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB COMMENT: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-10226 Filed 5-18-17; 8:45 am]

BILLING CODE 4184-77-P